DEPARTMENT OF COMMERCE

Patent and Trademark Office

Agency Information Collection Activities; Submission to the Office of Management and Budget (OMB) for Review and Approval; Comment Request; Responses to Office Action and Voluntary Amendment Forms

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on July 29, 2020 during a 60-day comment period. This notice allows for an additional 30 days for public comments.

Agency: United States Patent and Trademark Office, Department of Commerce.

Title: Responses to Office Action and Voluntary Amendment Forms.

OMB Control Number: 0651-0050.

Form Number(s):

• PTO-1957 (Response to Office Action)

• PTO-1960 (Request for Reconsideration After Final Office Action)

• PTO-1966 (Voluntary Amendment Not in Response to USPTO Office Action/Letter)

• PTO-1771 (Post-Approval/Publication/Post-Notice of Allowance (NOA) Amendment)

• PTO-1771 (Petition to Amend Basis Post-Publication)

• PTO-1822 (Response to Suspension Inquiry or Letter of Suspension)

Type of Review: Extension and revision of a currently approved information collection.

Number of Respondents: 393,657 respondents.

Average Hours per Response: The USPTO estimates 393,665 responses and that it will take the public between 15 minutes to 40 minutes to complete this information collection, depending on the complexity of the submission. This includes the time to gather the necessary information, prepare the appropriate documents, and submit the completed items to the USPTO.

Estimated Total Annual Respondent Burden Hours: 253,058 hours.

Estimated Total Annual Non-Hour Cost Burden: $101,223,200.

Needs and Uses: This collection of information is required by the Trademark Act (Act), 15 U.S.C. 1051 et seq., which provides for the Federal registration of trademarks, service marks, collective trademark and service marks, collective membership marks, and certification marks. Individuals and businesses that use such marks, or intend to use such marks, in interstate commerce may file an application to register their marks with the United States Patent and Trademark Office (USPTO). The USPTO also administers the Trademark Act through Title 37 of the Code of Federal Regulations. These regulations allow the USPTO to request and receive information required to process applications and allows applicants to submit certain amendments to their applications. This information collection includes information that was not submitted with the initial application and is needed by the USPTO to review applications for trademark registration.

In some cases, the USPTO issues Office Actions to applicants who have applied to register a mark, requesting information that was not provided with the initial submission, but is required before the issuance of a registration. Also, the USPTO may determine that a mark is not entitled to registration, pursuant to one or more provisions of the Trademark Act. In such cases, the USPTO will issue an Office Action advising the applicant of the refusal to register the mark. Applicants reply to these Office Actions by providing the required information and/or by putting forth legal arguments as to why the refusal of registration should be withdrawn.

Applicants may also supplement their applications and provide further information by filing a Voluntary Amendment Not in Response to USPTO Office Action/Letter, a Request for Reconsideration after Final Office Action, a Post-Approval/Publication/Post-Notice of Allowance (NOA) Amendment, a Petition to Amend Basis Post-Publication, or a Response to Suspension Inquiry or Letter of Suspension. In rare instances, an applicant may also submit a Substitute Trademark/Servicemark, Substitute Certification Mark, Substitute Collective Membership Mark, or Substitute Collective Trademark/Servicemark application.

Affected Public: Private Sector; individuals and households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0050.

Further information can be obtained by:

• Email: InformationCollection@uspto.gov. Include “0651-0050 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2020-21483 Filed 9-28-20; 8:45 am]

BILLING CODE 3510-16-P